ENVIRONMENTAL PROTECTION AGENCY

[FRL-7070-3]

Leaking Underground Storage Tank (LUST) Trust Fund Cooperative Agreements—USTfields Pilots; Announcement of Deadline Extension

AGENCY: Environmental Protection Agency (EPA).

ACTION: Request for proposals; notice of deadline extension.

SUMMARY: Due to the recent national events, EPA is extending the deadline for submitting proposals for USTfields Pilots from October 22, 2001 to November 19, 2001. Refer to Federal Register, 66 FR 44345, August 23, 2001 for more information.

DATES: The deadline for submitting proposals for the USTfields Pilots is extended to November 19, 2001. All proposals must be postmarked by that date. States, tribes, and intertribal consortia must send their proposals to their respective EPA Regional office via registered or tracked mail. (EPA Regional Office contact information is provided in the Proposal Guidelines.)

ADDRESSES: Besides obtaining the Proposal Guidelines on EPA's website at www.epa.gov/oust, interested persons can also obtain a copy by contacting their EPA Regional office or by calling the RCRA, Superfund, and EPCRA Call Center at the following numbers: Callers outside the Washington, DC metro area at 1-800-424-9346; callers in the Washington, DC metro area at (703) 412-9810; TDD for the hearing impaired at 1-800-553-7672.

FOR FURTHER INFORMATION CONTACT: Steven McNeely, EPA Office of Underground Storage Tanks (OUST) at (703) 603-7165, mcneely.steven@epa.gov, or Tim R. Smith, EPA OUST at (703) 603-7158, smith.timr@epa.gov.

Dated: September 25, 2001.
Devereaux Barnes,
Acting Assistant Administrator, Office of Solid Waste and Emergency Response.

[FR Doc. 01-24598 Filed 10-1-01; 8:45 am]

BILLING CODE 6560-50-P